DEPARTMENT OF TRANSPORTATION

Federal Aviation Administration

Proposed Technical Standard Order (TSO)-C167, Personnel Carrying Device Systems (PCDS), Also Known as Human Harnesses

AGENCY: Federal Aviation Administration (DOT).

ACTION: Notice of Availability and requests for public comment.

SUMMARY: This notice announces the availability of and requests comments on proposed Technical Standard Order (TSO)-C167, Personnel Carrying Device Systems (PCDS), also known as Human Harnesses. This proposed TSO tells PCDS manufacturers what minimum performance standards (MPS) their systems must first meet to obtain approval and identification with the applicable TSO marking.

DATES: Comments must identify the TSO and arrive by January 31, 2004.

ADDRESSES: Send all comments on the proposed TSO to: Federal Aviation Administration, Aircraft Certification Service, Aircraft Engineering Division, Technical Programs and Continued Airworthiness Branch, AIR-120, Room 815, 800 Independence Avenue, SW, Washington, DC 20591. ATTN: Mr. Dave Rich, AIR-120. Or, deliver comments to: Federal Aviation Administration, Room 815, 800 Independence Avenue, SW, Washington, DC 20591.

FOR FURTHER INFORMATION CONTACT: Mr. Dave Rich, Federal Aviation Administration, Aircraft Certification Service, Aircraft Engineering Division, Technical Programs and Continued Airworthiness Branch, AIR-120, Room 815, 800 Independence Avenue, SW, Washington, DC 20591. Telephone (202) 267-7141, fax (202) 267-5340, e-mail dave.rich@faa.gov.

SUPPLEMENTARY INFORMATION:

Comments Invited

You may comment on the proposed TSO listed in this notice by sending written data, views, or arguments to the above listed address. You may also examine comments received on the proposed TSO, before and after the comment closing date, in Room 815, FAA Headquarters, 800 Independence Avenue, SW, Washington, DC 20591, weekdays except Federal holidays, between 8:30 a.m. and 4:30 p.m. The Director of the Aircraft Certification Service will consider all communications received by the closing date before issuing the final TSO.

Background

This TSO gives the MPS for personnel carrying device systems. The MPS are based on National Fire Protection Association (NFPA) 1983, Standard on Fire Service Life Safety Rope and System Components, 2001 edition, and Society of Automotive Engineers (SAE) Aerospace Standard (AS) 8043, Revision A, Restraint Systems for Civil Aircraft, issued March 2000. We modified NFPA 1983 and SAE AS 8043, and show those modifications in Appendix 1 of the proposed TSO. This TSO's standards apply to equipment intended to allow personnel to be transported external from a helicopter (human external cargo (HEC) operations).

How To Get Copies

You may get a copy of the proposed TSO via the Internet at http://www.faa.gov/certification/aircraft/TSOA.htm, or by contacting the person listed in the section titled For further Information Contact.

Issued in Washington, DC, on October 2, 2003.
David W. Hempe,
Manager, Aircraft Engineering Division, Aircraft Certification Service.

[FR Doc. 03-25436 Filed 10-10-03; 8:45 am]

BILLING CODE 4910-13-M